DEPARTMENT OF LABOR

Employment and Training Administration

[TA-W-73,642]

Intel Corporation, Fab 20 Division, Including On-Site Leased Workers From Volt Technical Resources, Staff Finders Technical, Kelly Services, Retronix International, Manpower-Oregon and Nikon Precision, Inc., Hillsboro, OR; Amended Certification Regarding Eligibility To Apply for Worker Adjustment Assistance

In accordance with Section 223 of the Trade Act of 1974, as amended (“Act”), 19 U.S.C. 2273, the Department of Labor issued a Certification of Eligibility to apply for Worker Adjustment Assistance on March 10, 2010, applicable to workers of Intel Corporation, Fab 20 Division, including on-site leased workers of Volt Technical Resources, Staff Finders Technical and Kelly Services, Hillsboro, Oregon. The notice will be published soon in the Federal Register.

At the request of the subject firm, the Department reviewed the certification for workers of the subject firm. The workers are engaged in activities related to the production of chipsets.

The company reports that workers leased from Retronix International, Manpower-Oregon and Nikon Precision, Inc. were employed on-site at the Hillsboro, Oregon location of Intel Corporation, Fab 20 Division. The Department has determined that these workers were sufficiently under the control of the subject firm to be considered leased workers.

Based on these findings, the Department is amending this certification to include workers leased from Retronix International, Manpower-Oregon and Nikon Precision, Inc. working on-site at the Hillsboro, Oregon location of Intel Corporation, Fab 20 Division.

The amended notice applicable to TA-W-73,642 is hereby issued as follows:

All workers of Intel Corporation, Fab 20 Division, including on-site leased workers from Volt Technical Resources, Staff Finders Technical, Kelly Services, Retronix International, Manpower-Oregon and Nikon Precision, Inc., Hillsboro, Oregon who became totally or partially separated from employment on or after March 3, 2009, through March 10, 2012, and all workers in the group threatened with total or partial separation from employment on date of certification through two years from the date of certification, are eligible to apply for adjustment assistance under Chapter 2 of Title II of the Trade Act of 1974, as amended.

Signed in Washington, DC, this 13th day of April 2010.
Elliott S. Kushner,
Certifying Officer, Division of Trade Adjustment Assistance.

[FR Doc. 2010-9479 Filed 4-22-10; 8:45 am]

BILLING CODE P